DEPARTMENT OF ENERGY

Federal Energy Regulatory Commission

Combined Notice of Filings #1

Take notice that the Commission received the following electric corporate filings:

Docket Numbers: EC23-130-000.

Applicants: Albany Green Energy, LLC, ReEnergy Livermore Falls LLC, ReEnergy Stratton LLC.

Description: Joint Application for Authorization Under Section 203 of the Federal Power Act of Albany Green Energy, LLC, et al.

Filed Date: 9/13/23.

Accession Number: 20230913-5137.

Comment Date: 5 p.m. ET 10/4/23.

Take notice that the Commission received the following electric rate filings:

Docket Numbers: ER23-2540-001.

Applicants: Energy Prepay II, LLC.

Description: Tariff Amendment: Amendment to 1 to be effective 8/2/2023.

Filed Date: 9/14/23.

Accession Number: 20230914-5054.

Comment Date: 5 p.m. ET 9/25/23.

Docket Numbers: ER23-2833-000.

Applicants: PJM Interconnection, L.L.C.

Description: § 205(d) Rate Filing: Original ISA, Service Agreement No. 7070; Queue No. AE1-207/AE2-172 to be effective 8/15/2023.

Filed Date: 9/14/23.

Accession Number: 20230914-5005.

Comment Date: 5 p.m. ET 10/5/23.

Docket Numbers: ER23-2834-000.

Applicants: Jicarilla Solar 1 LLC.

Description: § 205(d) Rate Filing: Revised Market-Based Rate Tariff Filing to be effective 11/14/2023.

Filed Date: 9/14/23.

Accession Number: 20230914-5008.

Comment Date: 5 p.m. ET 10/5/23.

Docket Numbers: ER23-2835-000.

Applicants: Jicarilla Storage 1 LLC.

Description: § 205(d) Rate Filing: Revised Market-Based Rate Tariff Filing to be effective 11/14/2023.

Filed Date: 9/14/23.

Accession Number: 20230914-5009.

Comment Date: 5 p.m. ET 10/5/23.

Docket Numbers: ER23-2836-000.

Applicants: Basin Electric Power Cooperative, Southwest Power Pool, Inc.

Description: § 205(d) Rate Filing: Basin Electric Power Cooperative submits tariff filing per 35.13(a)(2)(iii: Basin Electric Power Cooperative Formula Rate Revisions to be effective 1/1/2023.

Filed Date: 9/14/23.

Accession Number: 20230914-5011.

Comment Date: 5 p.m. ET 10/5/23.

Docket Numbers: ER23-2837-000.

Applicants: Earp Solar, LLC.

Description: Baseline eTariff Filing: Earp Solar, LLC MBR Tariff to be effective 9/15/2023.

Filed Date: 9/14/23.

Accession Number: 20230914-5029.

Comment Date: 5 p.m. ET 10/5/23.

Docket Numbers: ER23-2838-000.

Applicants: BCD 2023 Fund 1 Lessee, LLC.

Description: Baseline eTariff Filing: BCD 2023 Fund 1 Lessee, LLC MBR Tariff to be effective 9/15/2023.

Filed Date: 9/14/23.

Accession Number: 20230914-5030.

Comment Date: 5 p.m. ET 10/5/23.

Docket Numbers: ER23-2839-000.

Applicants: Southwest Power Pool, Inc., ITC Great Plains, LLC.

Description: § 205(d) Rate Filing: Southwest Power Pool, Inc. submits tariff filing per 35.13(a)(2)(iii: ITC Great Plains, LLC Formula Rate Revisions to be effective 1/1/2024.

Filed Date: 9/14/23.

Accession Number: 20230914-5038.

Comment Date: 5 p.m. ET 10/5/23.

Docket Numbers: ER23-2840-000.

Applicants: Arizona Public Service Company.

Description: § 205(d) Rate Filing: Rate Schedule No. 217, Exhibit B.NGA to be effective 11/15/2023.

Filed Date: 9/14/23.

Accession Number: 20230914-5048.

Comment Date: 5 p.m. ET 10/5/23.

Docket Numbers: ER23-2841-000.

Applicants: PJM Interconnection, L.L.C.

Description: § 205(d) Rate Filing: Postponing Implementation of Capacity Market Mitigation Rules Applicable to DERs to be effective 7/1/2023.

Filed Date: 9/14/23.

Accession Number: 20230914-5060.

Comment Date: 5 p.m. ET 10/5/23.

Docket Numbers: ER23-2842-000.

Applicants: Sunnyside Cogeneration Associates.

Description: Baseline eTariff Filing: Baseline new to be effective 9/15/2023.

Filed Date: 9/14/23.

Accession Number: 20230914-5069.

Comment Date: 5 p.m. ET 10/5/23.

Take notice that the Commission received the following electric securities filings:

Docket Numbers: ES23-69-000.

Applicants: Georgia Power Company.

Description: Application Under Section 204 of the Federal Power Act for Authorization to Issue Securities of Georgia Power Company.

Filed Date: 9/13/23.

Accession Number: 20230913-5134.

Comment Date: 5 p.m. ET 10/4/23.

Docket Numbers: ES23-70-000.

Applicants: Mississippi Power Company.

Description: Application Under Section 204 of the Federal Power Act for Authorization to Issue Securities of Mississippi Power Company.

Filed Date: 9/13/23.

Accession Number: 20230913-5135.

Comment Date: 5 p.m. ET 10/4/23.

Take notice that the Commission received the following PURPA 210(m)(3) filings:

Docket Numbers: QM23-7-000.

Applicants: Entergy Services, LLC, Entergy Mississippi, LLC, Entergy Louisiana, LLC, Entergy New Orleans, LLC, Entergy Arkansas, LLC, Entergy Texas, Inc.

Description: Application of Entergy Services, LLC to Terminate Its Mandatory Purchase Obligation under the Public Utility Regulatory Policies Act of 1978.

Filed Date: 9/13/23.

Accession Number: 20230913-5142.

Comment Date: 5 p.m. ET 10/11/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 14, 2023.
Debbie-Anne A. Reese,
Deputy Secretary.

[FR Doc. 2023-20373 Filed 9-19-23; 8:45 am]

BILLING CODE 6717-01-P